DEPARTMENT OF DEFENSE

Department of the Navy

[USN-2008-0023]

Privacy Act of 1974; System of Records

AGENCY: Department of the Navy, DoD.

ACTION: Notice to amend a system of records.

SUMMARY: The Department of the Navy is amending a system of records notice in its existing inventory of record systems subject to the Privacy Act of 1974 (5 U.S.C. 552a), as amended.

DATES: This proposed action will be effective without further notice on May 2, 2008 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974 (5 U.S.C. 552a), as amended, have been published in the Federal Register and are available from the address above.

The specific changes to the record system being amended are set forth below followed by the notice, as amended, published in its entirety. The proposed amendments are not within the purview of subsection (r) of the Privacy Act of 1974 (5 U.S.C. 552a), as amended, which requires the submission of a new or altered system report.

Dated: March 27, 2008.
L.M. Bynum,
Alternate OSD Federal Register Liaison Officer, Department of Defense.

NM05720-1

System name:

FOIA Request/Appeal Files and Tracking System (December 29, 2005, 70 FR 77153).

Changes:

* * * * *

System location:

In para 1, delete “http://neds.daps.dla.mil/sndl.htm” and replace with “http://doni.daps.dla.mil/sndl.aspx”.

* * * * *

System manager(s) and address:

Under “Policy Official” delete “(N09B10)” and replace with “(DNS-36)”.

Under “Record Holders” replace “http://neds.daps.dla.mil/sndl.htm” with “http://doni.daps.dla.mil/sndl.aspx”.

Notification procedure:

In para 1, replace “http://neds.daps.dla.mil/sndl.htm” with “http://doni.daps.dla.mil/sndl.aspx”.

Record access procedures:

In para 1, replace “http://neds.daps.dla.mil/sndl.htm” with “http://doni.daps.dla.mil/sndl.aspx”.

* * * * *

NM05720-1

System name:

FOIA Request/Appeal Files and Tracking System.

System location:

Organizational elements of the Department of the Navy. Official mailing addresses are published in the Standard Navy Distribution List (SNDL) that is available at http://doni.daps.dla.mil/sndl.asp.

Categories of individuals covered by the system:

Individuals who request access to information under the provisions of the Freedom of Information Act (FOIA) or make an appeal under the FOIA.

Categories of records in the system:

FOIA request/appeal, copies of responsive records (redacted and released), correspondence generated as a result of the request, cost forms, memoranda, legal opinions, messages, and miscellaneous documents which related to the request. Database used to track requests from start to finish and formulate response letters may contain names, addresses, and other personal identifiers of the individual requester.

Authority for maintenance of the system:

5 U.S.C. 552, the Freedom of Information Act, as amended; 10 U.S.C. 5013, Secretary of the Navy; 10 U.S.C. 5041, Headquarters, Marine Corps; E.O. 9397 (SSN); and Secretary of the Navy Instruction 5720.42F, Department of the Navy Freedom of Information Act Program.

Purpose(s):

To track, process, and coordinate requests/appeals/litigation made under the provisions of the FOIA.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To individuals who file FOIA requests for access to information on who has made FOIA requests and/or what is being requested under FOIA.

The DoD ‘Blanket Routine Uses’ set forth at the beginning of the Navy's compilation of systems of records notices also apply to this system.

Policies and practices for storing, retrieving, accessing, retaining, and disposing of records in the system:

Storage:

Maintained in file folders, microform, microfilm, manual/computerized databases, and/or optical disk.

Retrievability:

Name of requester/appellant; year request/appeal filed; serial number of response letter; case file number; etc.

Safeguards:

Records are accessed by custodian of the record system and by persons responsible for servicing the record system in performance of their official duties. Records are stored in cabinets or rooms, which are not viewable by individuals who do not have a need to know. Computerized databases are password protected and accessed by individuals who have a need to know.

Retention and disposal:

Granted requests, no record responses, and/or responses to requesters who fail to adequately describe the records being sought or fail to state a willingness to pay processing fees are destroyed 2 years after date of reply. Requests which are denied in whole or in part, appealed, or litigated are destroyed 6 years after final action.

System manager(s) and address:

Policy Official: Chief of Naval Operations (DNS-36), 2000 Navy Pentagon, Washington, DC 20350-2000.

Record Holders: Organizational elements of the Department of the Navy. Official mailing addresses are published in the Standard Navy Distribution List (SNDL) that is available at http://doni.daps.dla.mil/sndl.aspx.

Appellate Authorities:

Office of the Judge Advocate General (Code 14), 1322 Patterson Avenue SE., Suite 3000, Washington, Navy Yard, DC 20374-5066.

General Counsel of the Navy (FOIA), 1000 Navy Pentagon, Washington, DC 20350-1000.

Notification procedure:

Individuals seeking to determine whether information about themselves is contained in this system should address written inquiries to the Freedom of Information Act coordinator, commanding officer of the activity in question, or in the case of appeals to the appropriate appellate authority. Official mailing addresses are published in the Standard Navy Distribution List (SNDL) that is available at http://doni.daps.dla.mil/sndl.aspx.

The request should contain the full name of the individual and one or more of the following kinds of information: year request/appeal filed; serial number of response letter; and/or case file number. Requests must also be signed.

Record access procedures:

Individuals seeking access to information about themselves contained in this system commanding officer of the activity in question, or in the case of appeals to the appropriate appellate authority. Official mailing addresses are published in the Standard Navy Distribution List (SNDL) that is available at http://doni.daps.dla.mil/sndl.aspx.

The request should contain the full name of the individual and one or more of the following kinds of information: year request/appeal filed; serial number of response letter; and/or case file number. Requests must also be signed.

Contesting record procedures:

The Department of the Navy's rules for accessing records, and for contesting contents and appealing initial agency determinations are published in Secretary of the Navy Instruction 5211.5; 32 CFR part 701; or may be obtained from the system manager.

Record source categories:

From the individual, Navy's organizations, Department of Defense components, and other Federal, state, and local government agencies.

Exemptions claimed for the system:

Department of the Navy exemption rules have been promulgated in accordance with requirements of 5 U.S.C. 553(b)(1), (2), and (3), (c) and (e) published in 32 CFR part 701, Subpart G. For additional information contact the system manager.

Note: During the course of a FOIA action, exempt materials from other systems of records may in turn become part of the case records in this system. To the extent that copies of exempt records from those ‘other’ systems of records are entered into this FOIA case record, the Department of the Navy hereby claims the same exemptions for the records from those ‘other’ systems that are entered into this system, as claimed for the original primary systems of records which they are a part.

[FR Doc. E8-6832 Filed 4-1-08; 8:45 am]

BILLING CODE 5001-06-P